DEPARTMENT OF ENERGY

Federal Energy Regulatory Commission

[Project No. 460-066]

Tacoma Power; Errata Notice

On September 11, 2012, the Commission issued a Notice of Application for Amendment of License and Soliciting Comments, Motions to Intervene, and Protests for the Cushman Hydroelectric Project (FERC No. 460-066). The notice of application is now revised to read as follows:

(1.) Paragraph l. is changed to read:

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document (P-460). You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in paragraph h. above.

Dated: September 11, 2012.
Kimberly D. Bose,
Secretary.

[FR Doc. 2012-23023 Filed 9-18-12; 8:45 am]

BILLING CODE 6717-01-P